ENVIRONMENTAL PROTECTION AGENCY

40 CFR Part 52

[EPA-R05-OAR-2023-0540; FRL-11835-02-R5]

Air Plan Approval; Wisconsin; SIP Alignment Revision

AGENCY: Environmental Protection Agency (EPA).

ACTION: Final rule.

SUMMARY: The Environmental Protection Agency (EPA) is approving an October 27, 2023, submittal from the Wisconsin Department of Natural Resources (WDNR) to align provisions approved in the Wisconsin State Implementation Plan (SIP) with current Wisconsin administrative rules and statutes. WDNR requested that certain provisions previously approved into the Wisconsin SIP under now obsolete numbering schemes be renumbered to ensure citations in the Wisconsin SIP reflect the current numbering systems of the Wisconsin Administrative Code (WAC) and the Wisconsin Statutes (Wis. Stats.). WDNR also requested that EPA approve rule and statute provisions that have been revised since they were approved into the Wisconsin SIP. Finally, WDNR requested removal of rules and statutes from the Wisconsin SIP that are no longer in effect in Wisconsin. Approval of these changes in the Wisconsin SIP will not impact the state's air quality or ability to meet Clean Air Act (CAA) requirements. EPA proposed to approve this action on May 16, 2024, and received no comments.

DATES: This final rule is effective on November 29, 2024.

ADDRESSES: EPA has established a docket for this action under Docket ID No. EPA-R05-OAR-2023-0540. All documents in the docket are listed on the www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Christos Panos at (312) 353-8328 before visiting the Region 5 office.

FOR FURTHER INFORMATION CONTACT: Christos Panos, Air and Radiation Division (AR-18J), Environmental Protection Agency, Region 5, 77 West Jackson Boulevard, Chicago, Illinois 60604, (312) 353-8328, panos.christos@epa.gov.

SUPPLEMENTARY INFORMATION: Throughout this document whenever “we,” “us,” or “our” is used, we mean EPA.

I. Background Information

On May 16, 2024 (89 FR 42829), EPA proposed to approve the SIP revision request submitted by Wisconsin on October 27, 2023. The revision includes primarily administrative changes to existing rules and updates to material adopted by reference related to rules in WAC Chapters 400, 415, 417, 431, 436, 445, 447, 492 and 493, and Wis. Stats. Chapters 15, 110, 285 and 299. Also, EPA proposed to approve Wisconsin's request for the removal of previously approved WAC rules and Wis. Stats. identified in Section 4 of the WDNR submittal. Most of the provisions that WDNR has removed are from Wis. Stats. that are obsolete. These provisions are no longer needed or have been replaced by other approved rules in the Wisconsin SIP. An explanation of the CAA requirements, a detailed analysis of the revisions, and EPA's reasons for proposing approval were provided in the notice of proposed rulemaking (NPRM), and will not be restated here. The public comment period for this proposed rule ended on June 17, 2024. EPA received no comments on the proposal.

II. Final Action

EPA is approving the SIP revision request submitted by Wisconsin on October 27, 2023. As previously stated, the purpose of this SIP revision is to revise the current SIP approved Wisconsin administrative rules and statute provisions so that they are consistent with the current versions of the Wisconsin rules and statutes. This will provide clarity to regulators, sources, and the public as to what has been approved into the Wisconsin SIP. To accomplish this WDNR requested that EPA revise the SIP by (1) replacing citations to rules and statutes that were revised as part of, or after, the Wisconsin renumbering processes, and (2) approving provisions that were simply updated, but not renumbered, with the most current version of these rule or statute provisions. WDNR also requested that EPA remove certain provisions from the Wisconsin SIP that are no longer in effect in Wisconsin. These provisions were either repealed at the state level via rulemaking action, or were not retained in the WAC or Wis. Stats. during the renumbering processes. Therefore EPA is approving into the Wisconsin SIP all of the requested revisions which are contained in the following version of the state rules and statutes:

• Chapters 15, 110, 285 and 299, Updated 21-22 Wis. Stats., published October 4, 2023;

• NR 400, Wisconsin Register, July 2022 No. 799, effective August 1, 2022;

• NR 415, Wisconsin Register, April 2023 No. 808, effective May 1, 2023;

• NR 417, Wisconsin Register, November 1999 No. 526, effective November 1, 1999;

• NR 431, Wisconsin Register, November 2003 No. 574, effective November 1, 2003;

• NR 436, Wisconsin Register, November 1999 No. 526, effective November 1, 1999;

• NR 445, Wisconsin Register, March 2016 No. 723, effective April 1, 2016;

• NR 447, Wisconsin Register, June 2004 No. 582, effective July 1, 2004;

• NR 492, Wisconsin Register, April 2013 No. 688, effective May 1, 2013;

• NR 493, Wisconsin Register, November 1999 No. 527, effective December 1, 1999;

• Chapter Trans 131, Wisconsin Register, July 2023 No. 811, effective August 1, 2023.

III. Incorporation by Reference

In this rule, EPA is finalizing regulatory text that includes incorporation by reference. In accordance with requirements of 1 CFR 51.5, EPA is finalizing the incorporation by reference of the Wisconsin Regulations described in section II. of this preamble and set forth in the amendments to 40 CFR part 52 below. EPA has made, and will continue to make, these documents generally available through www.regulations.gov, and at the EPA Region 5 Office (please contact the person identified in the FOR FURTHER INFORMATION CONTACT section of this preamble for more information).

Also in this document, EPA is removing EPA-Approved Wisconsin rules NR 422.02(24) and NR 493.05(5)(title) and EPA-Approved Wisconsin Statutes 144.30(9m), 144.30(9p), 144.30(9r), 144.30(17), 144.30(17m), 144.30(18), 144.30(18m), 144.30(19), 144.30(19m), 144.30(22), 144.30(22m), 144.3712(2), 144.3712(3), 144.395, 144.397(1), 144.399(2), 144.399(3) and 144.402 from the Wisconsin SIP, which is incorporated by reference in accordance with the requirements of 1 CFR part 51.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

WDNR did not evaluate EJ considerations as part of its SIP submittal; the CAA and applicable implementing regulations neither prohibit nor require such an evaluation. EPA did not perform an EJ analysis and did not consider EJ in this action. Consideration of EJ is not required as part of this action, and there is no information in the record inconsistent with the stated goal of E.O. 12898 of achieving EJ for people of color, low-income populations and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by December 30, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 23, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. Section 52.2570 is amended by removing and reserving paragraphs (c) (13), (c)(14), (c)(15), (c)(22), (c)(27), (c)(28), (c)(30), (c)(32), (c)(33), (c)(34), (c)(36), (c)(39), (c)(40), (c)(41), (c)(42), (c)(43), (c)(45), (c)(49), (c)(72), (c)(78) and (c)(91), and by adding paragraph (c)(150) to read as follows:

§ 52.2570 Identification of plan.

* * * * *

(c) * * *

(150) On October 27, 2023, WDNR submitted a SIP revision request to align provisions approved in the Wisconsin SIP with current Wisconsin administrative rules and statutes. WDNR requested that certain provisions previously approved into the Wisconsin SIP under now obsolete numbering schemes be renumbered to ensure citations in the Wisconsin SIP reflect the current numbering systems of the Wisconsin Administrative Code (WAC) and the Wisconsin Statutes (Wis. Stats.). WDNR also requested that EPA approve rule and statute provisions that have been revised since they were approved into the Wisconsin SIP. Finally, WDNR requested removal of rules and statutes from the Wisconsin SIP that are no longer in effect in Wisconsin. The rule and statute provisions that have been revised or removed were previously approved in paragraphs (c) (13), (c)(14), (c)(15), (c)(22), (c)(27), (c)(28), (c)(30), (c)(32), (c)(33), (c)(34), (c)(36), (c)(39), (c)(40), (c)(41), (c)(42), (c)(43), (c)(45), (c)(49), (c)(72), (c)(78) and (c)(91) of this section. Approval of these changes in the Wisconsin SIP will not impact the state's air quality or ability to meet Clean Air Act requirements.

(i) Incorporation by reference. (A) Wisconsin Administrative Code, NR 400, except Note, 400.01, 400.02 (19m), (27m), (107m), (123e), and (123s), 400.03(1)(a) through (cm) and (dm) through (m), and 400.03(4)(jp) and (js), as published in the Wisconsin Register, July 2022 No. 799, effective August 1, 2022.

(B) Wisconsin Administrative Code, NR 415, except 415.01, 415.02(3) and (8), 415.075(1), (2)(a) intro, 1. through 4., 6. and 7., (b) and (c), (3)(a) through (e), (4), (5), and (6), 415.076, and 415.09(2) and (3)(a) through (c), as published in the Wisconsin Register, April 2023 No. 808, effective May 1, 2023.

(C) Wisconsin Administrative Code, NR 417, except Note, 417.01(2), 417.03, 417.05, and 417.07(2)(e) and (f), as published in the Wisconsin Register, November 1999 No. 526, effective November 1, 1999.

(D) Wisconsin Administrative Code, NR 431, only 431.03, 431.04 and 431.05, as published in the Wisconsin Register, November 2003 No. 574, effective November 1, 2003.

(E) Wisconsin Administrative Code, NR 436, except 436.01(2), 436.03(2), and 436.05(5), as published in the Wisconsin Register, November 1999 No. 526, effective November 1, 1999.

(F) Wisconsin Administrative Code, NR 445, only 445.16, as published in the Wisconsin Register, March 2016 No. 723, effective April 1, 2016.

(G) Wisconsin Administrative Code, NR 447, only 447.02 intro, (6), (7), (16), (18) Note, and (31), 447.07 (3) intro, (a) and (d), 447.12 (3)(b) Note, 447.16 (2), and 447.18 intro and (1) Note, as published in the Wisconsin Register, June 2004 No. 582, effective July 1, 2004.

(H) Wisconsin Administrative Code, NR 492, only 492.03, as published in the Wisconsin Register, April 2013 No. 688, effective May 1, 2013.

(I) Wisconsin Administrative Code, NR 493, except Note and 493.01, as published in the Wisconsin Register, November 1999 No. 527.

(J) Wisconsin Administrative Code, Chapter Trans 131, as published in the Wisconsin Register, July 2023 No. 811, effective August 1, 2023.

(K) Wisconsin Statutes, Chapter 15, only 15.347(8), as revised by Updated 21-22 Wis. Stats., published October 4, 2023.

(L) Wisconsin Statutes, Chapter 110, only 110.20, as revised by Updated 21-22 Wis. Stats., published October 4, 2023.

(M) Wisconsin Statutes, Chapter 285, 285.01 except (17m), (21), (28), (33), (35), (38), (39), (40); 285.11 except (12), (13), (15), (16), (17), (18), (19); 285.13 except (7); 285.17 only (1); 285.19; 285.21 except (4); 285.23 except (6); 285.27 except (2)(d) and (3); 285.30; 285.31 only (5); 285.33 only (1); 285.35; 285.60 except (1)(b)2., (2g), (5m), (6)(b) and (c), (8), (9), (10) and (11); 285.61 except (5)(a) and (b), (10) and (11); 285.62; 285.63 except (11); 285.65; 285.66; 285.68; 285.69 except (1)(c), (1d), (2)(a), (c) intro, (c)2., (d) and (e), (2e), (2m), (3), (5), (6), and (7); 285.79; 285.81 except (1m) and (4); 285.83 except (2); and 285.87 except (2), as revised by Updated 21-22 Wis. Stats., published October 4, 2023.

(N) Wisconsin Statutes, Chapter 299, only 299.95, as revised by Updated 21-22 Wis. Stats., published October 4, 2023.

(ii) [Reserved]

[FR Doc. 2024-25032 Filed 10-28-24; 8:45 am]

BILLING CODE 6560-50-P